COURT SERVICES AND OFFENDER SUPERVISION AGENCY FOR THE DISTRICT OF COLUMBIA

Privacy Act of 1974; Notice of Amended Systems

Pursuant to the provisions of the Privacy Act of 1974 (5 U.S.C. 552a), the Court Services and Offender Supervision Agency for the District of Columbia (CSOSA) gives notice of proposed amendments to previously published systems of records on the Budget System (CSOSA-5), the Supervision Offender Case File (CSOSA-9), the Supervision & Management Automated Record Tracking (CSOSA-11), and the Office of Professional Responsibility Record (CSOSA-17).

The systems of records are proposed to be amended to note access by an expert, consultant, or contractor of CSOSA in the performance of a Federal duty to which the information is relevant. Such access may include the use of off-site contract computer servers for maintaining certain treatment information under CSOSA-9.

Accordingly, a new routine use is proposed to be added to CSOSA-5, CSOSA-9, CSOSA-11, and CSOSA-17, and the Storage and Safeguards data elements of CSOSA-9 are proposed to be revised to reflect this access.

In accordance with Title 5 U.S.C. 552a(e)(4) and (11), the public is given a 30-day period in which to comment on this notice; and the Office of Management and Budget (OMB), which has oversight responsibilities under the Act, requires a 40-day period in which to conclude its review of the system. Therefore, please submit any comments to Renee Barley, FOIA Officer, Office of the General Counsel, Court Services and Offender Supervision Agency for the District of Columbia, 633 Indiana Avenue, NW., Washington, DC 20004 by February 12, 2007. The amended system of records will be effective, as proposed, on February 26, 2007 unless CSOSA determines, upon review of the comments received, that changes should be made. In that event, CSOSA will publish a revised notice in the Federal Register.

In accordance with Privacy Act requirements, CSOSA has provided a report on the amended systems to OMB and Congress.

The specific amendments are given below.

1. In CSOSA-5 add a new paragraph G to data element “Routine Uses of Records Maintained in the System, Including Categories of Users and the Purposes of such Users”.

CSOSA-5

* * * * *

Routine uses of records maintained in the system, including categories of users and the purposes of such uses:

* * * * *

G. To an expert, consultant, or contractor of CSOSA in the performance of a Federal duty to which the information is relevant.

* * * * *

2. In CSOSA-9 make the following changes:

a. Redesignate paragraphs G, H, and I in data element “Routine Uses of Records Maintained in the System, Including Categories of Users and the Purposes of such Users” as paragraphs H, I, and J, and add a new paragraph G;

b. Revise data element “Storage”; and

c. Revise data element “Safeguards.”

CSOSA-9

* * * * *

Routine uses of records maintained in the system, including categories of users and the purposes of such uses:

* * * * *

G. To an expert, consultant, or contractor of CSOSA in the performance of a Federal duty to which the information is relevant.

* * * * *

Policies and practices for storing, retrieving, accessing, retaining, and disposing of records in the system:

Storage:

GPS data and treatment assessment information are hosted on servers that are managed by contract companies. Other information is stored manually in file folders or electronically on computers.

* * * * *

Safeguards:

The servers maintaining GPS data and treatment assessment information are located in a locked room; access to the servers is restricted, and end users must have a valid ID and password to access the data. Other information is maintained manually in file cabinets which are kept in locked offices.

* * * * *

3. In CSOSA-11 redesignate paragraph I of data element “Routine Uses of Records Maintained in the System, Including Categories of Users and the Purposes of such Users” as paragraph J, and add a new paragraph I.

CSOSA-11

* * * * *

Routine uses of records maintained in the system, including categories of users and the purposes of such uses:

* * * * *

I. To an expert, consultant, or contractor of CSOSA in the performance of a Federal duty to which the information is relevant.

* * * * *

4. In CSOSA-17 redesignate paragraph H of data element “Routine Uses of Records Maintained in the System, Including Categories of Users and the Purposes of such Users” as I and add a new paragraph H.

CSOSA-17

* * * * *

Routine uses of records maintained in the system, including categories of users and the purposes of such uses:

* * * * *

H. To an expert, consultant, or contractor of CSOSA in the performance of a Federal duty to which the information is relevant.

* * * * *

Dated: January 5, 2007.
Paul A. Quander, Jr.,
Director, Court Services and Offender Supervision Agency.

[FR Doc. E7-299 Filed 1-11-07; 8:45 am]

BILLING CODE 3129-01-P